DEPARTMENT OF ENERGY

Federal Energy Regulatory Commission

[Project No. 14115-000]

AJT Mining Properties, Inc.; Notice of Preliminary Permit Application Accepted for Filing and Soliciting Comments, Motions To Intervene, and Competing Applications

On March 21, 2011, AJT Mining Properties, Inc., filed an application for a preliminary permit, pursuant to section 4(f) of the Federal Power Act (FPA), proposing to study the feasibility of the Yeldagalga Creek Hydroelectric Project (project) to be located on the Yeldagalga Creek, near Haines, in the boroughs of Haines and Juneau, Alaska. The project would be located on lands within the Tongass National Forest, which is owned and managed by the U.S.D.A. Forest Service. The sole purpose of a preliminary permit, if issued, is to grant the permit holder priority to file a license application during the permit term. A preliminary permit does not authorize the permit holder to perform any land-disturbing activities or otherwise enter upon lands or waters owned by others without the owners' express permission.

The proposed project would consist of the following: (1) A 10-foot-high, 50-foot-wide diversion dam; (2) an overflow spillway; (3) a 42-inch-diameter, 2,500-foot-long penstock; (4) a powerhouse containing a generating unit rated at 8 megawatts; (5) a short tailrace; (6) living quarters for personnel; (7) a dock and barge landing facility; (8) a 34.5-kilovolt, 16-mile-long overhead transmission line; and (9) appurtenant facilities. The estimated annual generation of the project would be 31,000 megawatt-hours.

Applicant Contact: Mr. Scott Willis, AJT Mining Properties, Inc., 5601 Tonsgard Court, Juneau, Alaska 99801; phone: (907) 463-6396.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14115-000) in the docket number field to access the document. For assistance, contact FERC Online Support.

Dated: June 10, 2011.
Kimberly D. Bose,
Secretary.

[FR Doc. 2011-14961 Filed 6-15-11; 8:45 am]

BILLING CODE 6717-01-P